DEPARTMENT OF STATE

[Public Notice 4988]

Bureau of Educational and Cultural Affairs (ECA) Request for Grant Proposals: Partnerships for Learning Youth Exchange and Study (P4L-YES) Program

Announcement Type: New Grant.

Funding Opportunity Number: ECA/PE/C/PY-05-26.

Catalog of Federal Domestic Assistance Number: 00.000.

Key Dates:

Application Deadline: April 4, 2005.

Executive Summary: The Youth Programs Division, Office of Citizen Exchanges of the Bureau of Educational and Cultural Affairs announces an open competition for grants to support exchanges and relationship building between high school students from countries with significant Muslim populations and people of the United States. Public and private non-profit organizations meeting the provisions described in Internal Revenue Code section 26 U.S.C. 501(c)(3) and public institutions may submit proposals to recruit and select students and to carry out projects for an academic year or semester of study in the United States, incorporating themes promoting civil society and mutual understanding.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose:

Overview: The Partnerships for Learning (P4L) initiative encompasses cultural and civic exchanges as vehicles through which the successor generation can engage in a dialogue for greater understanding.

The P4L-YES program is designed to foster a community of shared interests and values developed through better mutual understanding via first-hand participation of high school students, aged 15-17, from countries with significant Muslim populations, in academic semester and year exchanges to the United States. The program seeks to select students with leadership potential and to develop their leadership skills while in the U.S. and when they return home.

The overarching goals are to:

1. Promote better understanding by youth from selected countries about American society, people, institutions, values and culture;

2. Foster lasting personal ties;

3. Enhance Americans' understanding of the foreign students' countries and cultures;

4. Promote awareness of and involvement in civic and democratic processes among participants and their peers;

5. Increase the capacity of organizations in participating countries to engage youth in activities that advance mutual understanding and civil society through alumni activities.

This initiative is intended to build on a solid foundation of exchanges laid in past years by grantees selected in a competition conducted in 2002 and subsequently renewed in 2003 and 2004, while encouraging new applicants with the ability to assist ECA in expanding the breadth of the program. Funding will support academic year exchanges and continue to incorporate lessons learned and best practices into perfecting the model for conducting future programs. Proposals for single semester exchanges may be accepted for partner countries where the academic year is not compatible with the U.S. academic calendar. Bureau seeks to award grants to further efforts in participant countries where exchange programs have existed previously but also to encourage the establishment of academic year exchanges with countries where minimal or inadequate capability has existed previously. Grants will be awarded both to organizations that have the necessary infrastructure and experience conducting academic high school exchange programs with the partner countries, as well as to those that seek to collaborate with the Bureau in building the necessary infrastructure for exchanges with the partner countries where this does not currently exist. It is anticipated that initial funding for “start-up costs” for recruitment and selection associated with this program will be provided in FY-2005. The balance will be provided in FY-2006, pending availability of funds.

ECA will accept proposals for either multiple-country or single-country projects. It will also accept grants from single applicants or from those that have formed partnerships with qualified partners to implement specified tasks to complete the project. YES is a program for all students from countries with significant Muslim populations, not just for Muslim students. It is ECA's expectation that, overall, across all regions, the majority of participants will be Muslim but that we will see ample religious, ethnic, socio-economic and geographic diversity within any country.

Most student participants will arrive in their host communities during the month of August 2006 and remain for 10 or 11 months until their departure during the period mid-May to early July 2007. For countries where the standard of English instruction does not provide an adequate qualifying applicant pool, selected students requiring additional language instruction may arrive in July if additional preparation in the U.S. is necessitated; alternatively applicants may propose in-country language preparation prior to the students' departure from their home countries. As an alternative to the full-year-program, grant recipients may bring a contingent of students to the U.S. for the spring 2007 semester from countries where the academic year is not compatible with the U.S. academic year. During the exchange period, students will participate in activities designed to teach them about community life, citizen participation in a democracy, and U.S. culture. Participants will have opportunities to give presentations on their countries and cultures in community forums.

Guidelines: The partner countries for this program will be selected based on a number of factors: (1) Foreign policy considerations, (2) a favorable climate for exchange, and (3) the ability of the private sector to administer exchange programs, as demonstrated by the response to this RFGP. The tentative list includes but is not limited to the following countries: Afghanistan, Algeria, Bahrain, Bangladesh, Brunei, Cambodia, Chad, Egypt, India, Indonesia, Israel (Arab Communities), Jordan, Kenya, Kuwait, Lebanon, Malaysia, Mali, Mauritania, Morocco, Niger, Nigeria, Oman, Pakistan, Philippines, Qatar, Saudi Arabia, Senegal, Syria, Tanzania, Thailand, Tunisia, Turkey, United Arab Emirates, West Bank/Gaza, and Yemen. The Bureau reserves the right to amend this list at any time as conditions change. Should an applicant have questions in regards to countries on this list or an interest in proposing an exchange with additional countries not on this list, please contact the Bureau. (See Section IV.1 for contact information.)

Responsibilities:

• To recruit, select and place approximately 1,000 high school students from countries with significant Muslim populations in qualified, well-motivated host families.

• To place students in schools that have been accredited by the respective state departments of education.

• To expose program participants to American culture and civil society through homestay experiences and enhancement activities that will enable them to attain a broad view of the society and culture of the U.S.

• To expose YES program participants to opportunities for volunteerism and community service.

• To encourage YES program participants to share their culture, lifestyle and traditions with U.S. citizens throughout their stay and including International Education Week.

• To provide YES students with leadership opportunities that will foster skills they can take back with them and use in their home countries.

• To provide activities that will increase and enhance students' understanding of the importance of tolerance and respect for the views and beliefs of others in a civil society.

• To develop alumni databases and create alumni programs giving opportunities for returning students to incorporate their knowledge and skills into service in their home countries.

Through participation in the YES program, students should:

1. Acquire an understanding of important elements of a civil society. This includes concepts such as volunteerism, the idea that American citizens can and do act at the grassroots level to deal with societal problems, and an awareness of and respect for the rule of law.

2. Acquire an understanding of a free market economy and private enterprise. This includes awareness of privatization and an appreciation of the role of entrepreneurs in economic growth.

3. Develop an appreciation for American culture, an understanding of the diversity of American society and increased tolerance and respect for others with differing views and beliefs.

4. Interact with Americans and generate enduring ties.

5. Teach Americans about the cultures of their home countries.

6. Gain leadership capacity that will enable them to initiate and support activities in their home countries that focus on development and community service in their role as YES alumni.

Further Considerations:

1. There is no minimum or maximum number of students who may be selected and placed by one organization however cost effectiveness will be a review criterion in all applications. It is anticipated that approximately 5-7 grants will be awarded for the YES program. Placements may be in any region in the U.S. Strong preference will be given to organizations that choose to place participants in clusters of at least three students. Applicants must demonstrate that training of local staff ensures their competence in providing culture and YES-specific orientation programs, appropriate enhancement activities, and quality supervision and counseling of students from participating countries. Please refer to the Solicitation Package, available on request from the address listed below, for details on essential program elements, permissible costs, and criteria used to select students.

2. We anticipate grants beginning no later than June 2005.

3. Administration of the program must be in compliance with reporting and withholding regulations for federal, state, and local taxes as applicable. Recipient organizations should demonstrate tax regulation adherence in the proposal narrative and budget.

4. Applicants should submit the health and accident insurance plans they intend to use for students on this program. If use of a private plan is proposed, the State Department will compare that plan with the Bureau plan and make a determination of which will be applicable.

5. All grantees are required to include people with physical disabilities in the exchange.

6. All exchange participants must travel on J-1 visas using DS-2019s issued by the ECA program office under its program designation.

7. Applicants should reflect an understanding of the related youth work of various international agencies in the proposed country(s), such as the U.S. Agency for International Development, World Bank, non-governmental organizations (NGOs) working with youth, and development foundations as a way to enhance alumni programming and provide participants with resources and support when they return home.

8. Projects should promote youth awareness of and involvement in civic and democratic processes, including tolerance of diversity, accountability of government, human rights, and inclusiveness of women, people with disabilities and minorities. Proposals may include small grants to encourage alumni to utilize what they have learned in their home countries to promote civic education projects and community development initiatives.

9. Applicants should identify local partners (organizations or individuals) in the countries with which they are proposing to collaborate and provide information regarding their activities and accomplishments in the proposal. Proposals must contain letters of commitment or support from the foreign country partner(s), and these letters should be tailored to the activities being proposed.

Please refer to the Solicitation Package for further information, especially the Project Objectives, Goals and Implementation (POGI) and the Proposal Submission Instructions (PSI).

Proposal Contents:

In a 20-page, one-sided, double-spaced narrative, please describe the proposed project in detail, including the themes, guidelines, responsibilities and considerations outlined above. A recommended outline to help with the organization of your narrative is found in the POGI.

Please include any attachments in Tab E of your proposal. Limit the attachments to those essential for understanding the proposal.

II. Award Information

Type of Award: Grant Agreement.

Fiscal Year Funds: FY 2005 and FY-2006 (pending availability of funds).

Approximate Total Funding: $10,000,000.

Approximate Number of Awards: 5-7.

Approximate Average Award: $2,000,000.

Floor of Award Range: There is no minimum award.

Ceiling of Award Range: There is no maximum award.

Anticipated Award Date: Pending availability of funds, June 1, 2005.

Anticipated Project Completion Date: September 30, 2007

Additional Information: Pending successful implementation of this program and the availability of funds in subsequent fiscal years, it is ECA's intent to renew grants awarded in this competition for up to two additional fiscal years, before openly competing the program again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs, which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a) Grants awarded to eligible organizations with less than four years of experience in conducting international exchange programs will be limited to $60,000.

(b) Technical Eligibility: Funding will be awarded to organizations that:

1. As a single organization, have in place the existing infrastructure in the U.S. and in the participating countries and have a recent track record of successfully conducting educational exchanges with those countries and can demonstrate their ability to comply with all requirements for administering federal grants, including standards of the Department of State as a secondary school student exchange visitor sponsor with experience in J-1 visa requirements; or

2. As a lead organization, proposes to form partnerships, consortia, and other arrangements with other organizations to pool resources that will result in implementing a program with the required quality features, as outlined in this RFGP and supplementary documents. To be eligible for this latter structure, the grantee organizations must be already familiar with the Department of State's standards and expectations for secondary school student exchange visitor sponsors and have a thorough knowledge of J-1 visa requirements. Though not a requirement for all other members of the group, a thorough understanding of the secondary school student exchange visitor regulations is essential for other organizations involved in the selection, travel and placement of students.

Note: All accepted proposals must demonstrate a sufficient infrastructure within each participating country that is satisfactory to ECA and the U.S. Embassy and will ensure successful implementation of the program.

IV. Application and Submission Information

Note: Please read the complete Federal Register announcement before sending inquiries or submitting proposals. Once the RFGP deadline has passed, Bureau staff may not discuss this competition with applicants until the proposal review process has been completed.

IV.1. Contact Information to Request an Application Package: Please contact Kevin Baker at the Office of Citizen Exchanges, ECA/PE/C/PY, Room 568, U.S. Department of State, SA-44, 301 4th Street, SW., Washington, DC 20547, 202-203-7517 (t), 202-203-7529 (f), BakerKM1@state.gov to request a Solicitation Package. Please refer to the Funding Opportunity Number (ECA/PE/C/PY-05-26) located at the top of this announcement when making your request.

The Solicitation Package contains the Proposal Submission Instruction (PSI) document, which consists of required application forms, and standard guidelines for proposal preparation.

It also contains the Project Objectives, Goals and Implementation (POGI) document, which provides specific information, award criteria and budget instructions tailored to this competition.

Please specify Kevin Baker and refer to the Funding Opportunity Number (ECA/PE/C/PY-05-26) located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and eight (8) copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424, which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation. Grantees will be required to participate in an independent evaluation being conducted through ECA for the first four years of the P4L YES program. The role of the grantees includes administering and submitting three surveys for each participant. The survey forms will be provided to the grantee's recruiting component office along with instructions by the Bureau's evaluation consultant, InterMedia. As has happened in the past, the grantee will receive a payment per participant from the consultant to defray costs incurred in this task. The first survey should be administered at the participants' pre-departure orientations, preferably as early as possible. (Under no circumstance may it be administered after the students have come to the US.) The second survey will be completed on-line by students, and the grantees' placement offices must ensure that all students complete it near the end of the academic year before leaving the US. The final survey will be administered and submitted to InterMedia by the grantees' recruitment offices in the partner country with the students one year after they return home.

Through these surveys InterMedia will evaluate the project's success through key evaluation questions, including students' satisfaction with the program, learning as a result of the program, changes in behavior as a result of the program, and effects of the program on institutions (institutions in which participants work or partner institutions). The evaluation plan will include indicators that measure gains in mutual understanding as well as substantive knowledge.

A successful evaluation depends heavily on grantees setting clear goals and outcomes at the outset of a program. Although InterMedia will conduct an independent evaluation of the program, your proposal should express clearly your project goals, project's objectives, anticipated project outcomes, and how you will plan appropriate and focused activities and to monitor students' progress throughout the year. Also, proposals should explain alumni activities and individual tracking in order to monitor results realized post-exchange. You should also show how your project objectives link to the goals of the program described in this RFGP.

Your monitoring plan should clearly distinguish between desired program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. InterMedia's surveys will collect information on both outputs and outcomes, but the focus will be on outcomes.

The second and final InterMedia surveys will assess the following four levels of outcomes—both during the exchange and in the first year after their return home—as they relate to the program goals set out in the RFGP (listed here in increasing order of importance). Grantees should demonstrate in their proposals their strategy for planning appropriate activities and monitoring that will ensure participant success in these areas:

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Overall, the quality of your monitoring and performance evaluation plan will be judged on how well it (1) specifies intended outcomes; (2) gives clear descriptions of how and when each outcome will be measured and reported; (3) clearly explains how progress will be reported to ECA through the quarterly and final reports.

Grantees will be required to provide reports analyzing their evaluation findings to the Bureau in their regular program reports. All data collected, including monitoring tools and contact information, must be maintained for a minimum of three years and provided to the Bureau upon request.

IV.3d.4. The essential components for all academic study projects undertaken with Bureau grant funding include collaboration with American embassies overseas in planning and implementing the exchange; the applicant should meet with the embassy's Public Affairs Office or Cultural Affairs Office to discuss the role and interests of the embassy in the implementation of the project and in alumni activities.

Wherever possible program planning should take into consideration and include other U.S. Government funded programs. This is especially relevant for countries that receive ECA funding for Global Connections and Exchange programs. Collaboration with these Internet-based programs should help YES students, families and alumni maintain contact through online portals of communication. These programs may also offer YES alumni with platforms for practical and meaningful Internet-based activities that serve schools and communities.

IV.3e. Budget Guidelines: Please take the following information into consideration when preparing your budget.

IV.3e.1. Applicants must submit a comprehensive budget for the entire program. There must be a summary budget as well as breakdowns reflecting both administrative and program budgets. Applicants should provide detailed separate sub-budgets for each program component, country, or activity. For multi-country programs, applicants should also include a budget summary with an estimate of the total request for each country considering all components from recruitment to placement to alumni support. This will allow reviewers to consider partial funding alternatives if necessary.

IV.3e.2. Allowable costs for the program include the following: Please refer to the Solicitation Package for allowable costs complete budget guidelines and formatting instructions.

IV.3e.3. Grant funding will be available to pay for a percentage of the students to participate in a pre-academic English enhancement and cultural adjustment program, on an as-needed basis.

IV.3f. Submission Dates and Times: Application Deadline Date: April 4, 2005.

Explanation of Deadlines: In light of recent events and heightened security measures, proposal submissions must be sent via a nationally recognized overnight delivery service (i.e., DHL, Federal Express, UPS, Airborne Express, or U.S. Postal Service Express Overnight Mail, etc.) and be shipped no later than Monday, April 4, 2005. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM.”

The original and eight (8) copies of the application should be sent to: U.S. Department of State, SA-44, Bureau of Educational and Cultural Affairs, Ref.: ECA/PE/C/PY-05-26, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. Applicants must also submit the “Executive Summary” and “Proposal Narrative” sections of the proposal in Word format and budgets in Excel version on a PC-formatted disk. The Bureau will provide these files electronically to the appropriate Public Affairs Section(s) at the U.S. embassy (ies) for its (their) review.

V. Application Review Information

V.1. Review Process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the program idea and planning: Proposals should exhibit originality, substance, precision, and relevance to the Bureau's mission and the purposes outlined in the solicitation. Detailed agenda and relevant work plan should demonstrate the ability to ensure that the proposed project accomplishes the stated objectives in the desired time frame. Proposals should demonstrate how students will be recruited, selected, monitored, trained and prepared for their role as YES alumni. The level of creativity, resources, and effectiveness will be primary factors for review. Proposals should be clearly and accurately written, with sufficient, relevant detail. The Narrative should address all of the items in the Statement of Work and Guidelines described above.

2. Multiplier effect/Follow-on activities: Proposed programs should strengthen long-term mutual understanding, including maximum sharing of information and establishment of long-term institutional and individual ties both during the exchange and after the participants return home. Proposals should provide a plan for continued contact with returnees to ensure that they are tracked over time, utilized and/or organized as alumni, and provided opportunities to reinforce the knowledge and skills they acquired on the exchange and share them with others.

3. Support of Diversity: Proposals should demonstrate substantive support of the Bureau's policy on diversity in all program aspects including participants (exchange students and hosts), sending and hosting communities, orientation, and program activities. Proposals should articulate a diversity plan, not just a statement of compliance.

4. Institutional Record/Capacity: Proposed personnel and institutional resources should be adequate and appropriate to achieve the program's goals. Proposals for infrastructure building should convincingly describe the need and the plan to address that need in specific terms (e.g., staffing, staff training, equipping and maintaining an office). The plan should demonstrate a thorough understanding of local requirements for establishing and registering an NGO. Proposals should demonstrate an institutional record of successful exchange programs, including responsible fiscal management and full compliance with all reporting requirements for past Bureau grants as determined by Bureau Grant Staff. The Bureau will consider the past performance of prior recipients and the demonstrated potential of new applicants.

5. Project Evaluation: The Bureau will provide baseline data and standard questionnaires for use in surveying participants and returnees to ensure that data is comparable from one program to another and will facilitate the demonstration of results. The proposal should indicate concurrence with this plan and explain how it will facilitate the completion and submission of participant surveys. Applicants may describe any experience conducting results-oriented evaluations. Successful applicants will demonstrate clear program goals and objectives as well as strategies for monitoring student and alumni progress. Grantees are also expected to submit quarterly reports that include student and alumni activities and progress.

6. Cost-effectiveness/Cost-Sharing: The overhead and administrative components of the proposal, including salaries and honoraria, should be kept as low as possible. All other items should be necessary and appropriate. Proposals should maximize cost-sharing through institutional direct funding contributions, as well as other private sector support. Preference will be given to organizations whose proposals demonstrate a quality, cost-effective program.

7. Value to U.S.-Partner Country Relations: Proposals should indicate how the program is of value to U.S. and partner countries' interests and receive positive assessments by the U.S. Department of State's geographic area desks and overseas officers of program need, potential impact, and significance in the partner countries.

VI. Award Administration Information

VI.1. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants http://exchanges.state.gov/education/grantsdiv/terms.htm#articleI.

VI.3. Reporting Requirements: You must provide ECA with a hard copy original plus one copy of the following reports:

(1) A final program and financial report no more than 90 days after the expiration of the award;

(2) Quarterly program and financial reports, which should follow guidelines to be distributed after the awarding of the grant. Reports should include planned objectives and goals for the period, actual accomplishments, and explanations of differences from planned timeline. Reports are due on the last day of each March, June, September and December throughout the project period.

Grantees will be required to work with the organization contracted by the Bureau to manage the evaluation of the program. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Kevin Baker, Office of Citizen Exchanges, ECA/PE/C/PY, Room 568, ECA/PE/C/PY-05-26, U.S. Department of State, SA-44, 301 4th Street, SW., Washington, DC 20547, 202-203-7517 (t) and 202-203-7529 (f), BakerKM1@state.gov.

All correspondence with the Bureau concerning this RFGP should reference the above title and number ECA/PE/C/PY-05-26.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 1, 2005.
C. Miller Crouch,
Principal Deputy Assistant Secretary, Bureau of Educational and Cultural Affairs, Department of State.

[FR Doc. 05-2621 Filed 2-9-05; 8:45 am]

BILLING CODE 4710-05-P